DEPARTMENT OF JUSTICE

Notice of Lodging of Proposed Consent Decree

In accordance with Departmental Policy, 28 CFR 50.7, notice is hereby given that a proposed Consent Decree in United States, et al. v. Waco Oil & Gas Co., Inc., Civil Action No. 23-cv-00078, was lodged with the United States District Court for the Northern District of West Virginia on September 28, 2023.

This proposed Consent Decree concerns a complaint filed by the United States and the State of West Virginia against Defendant Waco Oil & Gas Co., Inc., pursuant to Section 309(b) and (d) of the Clean Water Act, 33 U.S.C. 1319(b) and (d), to obtain injunctive relief from and impose civil penalties against the Defendant for violating the Clean Water Act by discharging pollutants without a permit into waters of the United States. The proposed Consent Decree resolves these allegations by requiring the Defendant to restore impacted areas, perform mitigation, and pay a civil penalty.

The Department of Justice will accept written comments relating to this proposed Consent Decree for thirty (30) days from the date of publication of this Notice. Please address comments by email to pubcomment_eds.enrd@usdoj.gov or by mail to Albert Lin, Environment and Natural Resources Division, Environmental Defense Section, Post Office Box 7611, Washington, DC 20044-7611; and refer to United States, et al. v. Waco Oil & Gas Co., Inc., DJ No. 90-5-1-1-22046.

The proposed Consent Decree may be examined at the Clerk's Office, United States District Court for the Northern District of West Virginia, located at 500 West Pike Street, Room 301, Clarksburg, WV 26301. In addition, the proposed Consent Decree may be examined electronically at https://www.justice.gov/enrd/consent-decrees.

Cherie Rogers,
Assistant Section Chief, Environmental Defense Section, Environment and Natural Resources Division.

[FR Doc. 2023-21966 Filed 10-3-23; 8:45 am]

BILLING CODE P